NUCLEAR REGULATORY COMMISSION

Advisory Committee on the Medical Uses of Isotopes: Call for Nominations

AGENCY: U.S. Nuclear Regulatory Commission.

ACTION: Call for Nominations.

SUMMARY: The U.S. Nuclear Regulatory Commission (NRC) is advertising for nominations for the patients' rights advocate position on the Advisory Committee on the Medical Uses of Isotopes (ACMUI). Nominees should have professional or personal experience with or knowledge about patient advocacy. Also, involvement or leadership with patient advocacy organizations is preferred.

DATES: Nominations are due on or before November 15, 2010.

NOMINATION PROCESS: Submit an electronic copy of resume or curriculum vitae, along with a cover letter, to Ms. Ashley Cockerham, ashley.cockerham@nrc.gov. The cover letter should describe the nominee's current involvement with patients' rights advocacy and express the nominee's interest in the position. Please ensure that resume or curriculum vitae includes the following information, if applicable: education; certification; professional association membership and committee membership activities; and number of years, recentness, and type of setting for patient advocacy.

FOR FURTHER INFORMATION CONTACT: Ms. Ashley Cockerham, U.S. Nuclear Regulatory Commission, Office of Federal and State Materials and Environmental Management Programs; (240) 888-7129; ashley.cockerham@nrc.gov.

SUPPLEMENTARY INFORMATION: The patients' rights advocate provides advice to NRC staff on patients' issues associated with the regulation of medical applications of byproduct material. This advice includes ensuring patients' rights are represented during the development and implementation of NRC medical-use policy. This individual is appointed based on his or her professional and personal experience with and/or knowledge about patient advocacy, involvement and/or leadership with patient advocacy organizations, and other information obtained in letters or during the selection process. Nominees should have the demonstrated ability to establish effective work relationships with peers and implement successful approaches to problem solving and conflict resolution. ACMUI members currently serve a four-year term and may be considered for reappointment to an additional term. The current membership is comprised of the following professionals: (a) Nuclear medicine physician; (b) nuclear cardiologist; (c) nuclear medicine physicist; (d) therapy medical physicist; (e) radiation safety officer; (f) nuclear pharmacist; (g) two radiation oncologists; (h) patients' rights advocate; (i) Food and Drug Administration representative; (j) Agreement State representative; (k) health care administrator; and (l) diagnostic radiologist. For additional information about membership on the ACMUI, visit the ACMUI Membership Web page, http://www.nrc.gov/about-nrc/regulatory/advisory/acmui/membership.html.

Nominees must be U.S. citizens and be able to devote approximately 160 hours per year to Committee business. Members are expected to attend semi-annual meetings in Rockville, Maryland and to participate in teleconferences, as needed. Members who are not Federal employees are compensated for their service. In addition, these members are reimbursed for travel and correspondence expenses. Full-time Federal employees are reimbursed for travel expenses only.

Security Background Check: The selected nominee will undergo a thorough security background check. Security paperwork may take the nominee several weeks to complete. Nominees will also be required to complete a financial disclosure statement to assure that there are no conflicts of interest.

Dated at Rockville, Maryland this 8th day of September, 2010.
For the U.S. Nuclear Regulatory Commission.
Andrew L. Bates,
Advisory Committee Management Officer.

[FR Doc. 2010-22827 Filed 9-13-10; 8:45 am]

BILLING CODE 7590-01-P